DEPARTMENT OF THE INTERIOR

Fish and Wildlife Service

[FWS-R5-R-2012-N145; BAC-4311-K9-S3]

John Heinz National Wildlife Refuge at Tinicum, DE and Philadelphia Counties, PA; Final Comprehensive Conservation Plan and Finding of No Significant Impact

AGENCY: Fish and Wildlife Service, Interior.

ACTION: Notice of availability.

SUMMARY: We, the U.S. Fish and Wildlife Service (Service), announce the availability of the final comprehensive conservation plan (CCP) and finding of no significant impact (FONSI) for John Heinz National Wildlife Refuge at Tinicum (John Heinz NWR, refuge) in Delaware and Philadelphia Counties, Pennsylvania. In this final CCP, we describe how we will manage the refuge for the next 15 years.

ADDRESSES: You may view or obtain copies of the final CCP and FONSI by any of the following methods. You may request a hard copy or a CD-ROM.

Agency Web site: Download a copy of the document at http://www.fws.gov/northeast/planning/John%20Heinz/ccphome.html.

Email: Send requests to northeastplanning@fws.gov. Include “John Heinz NWR Final CCP” in the subject line of your email.

Mail: Lia McLaughlin, Natural Resource Planner, U.S. Fish and Wildlife Service, 300 Westgate Center Drive, Hadley, MA 01035.

Fax: Attention: Lia McLaughlin, 413-253-8468.

In-Person Viewing or Pickup: Call (215) 365-3118 to make an appointment (necessary for view/pickup only) during regular business hours at 8601 Lindbergh Blvd., Philadelphia, PA 19153.

FOR FURTHER INFORMATION CONTACT: Gary Stolz, Refuge Manager, phone: (215) 365-3118, or Lia McLaughlin, Planning Team Leader, phone: 413-253-8575; email: northeastplanning@fws.gov.

SUPPLEMENTARY INFORMATION:

Introduction

With this notice, we finalize the CCP process for John Heinz NWR. We started this process through a notice of intent in the Federal Register (75 FR 25285) on May 7, 2010. We released the draft CCP/environmental assessment (EA) to the public, announcing and requesting comments in a notice of availability in the Federal Register (77 FR 16854) on March 22, 2012.

The refuge was established in 1972 to preserve and restore the natural area known as Tinicum Marsh, to promote environmental education, and to afford visitors an opportunity to study wildlife in its natural habitat. It is located in Delaware and Philadelphia Counties, along the Delaware River, in southeastern Pennsylvania. Currently, the refuge includes 993 acres of freshwater tidal marsh, open water, grassland, and forest habitat. It is an important migratory stopover for birds along the Atlantic Flyway, and provides habitat for State-listed threatened and endangered species such as the eastern redbelly turtle (Pseudemys rubriventris). The refuge also offers unique opportunities for environmental education and interpretation in an urban setting.

We announce our decision and the availability of the Finding of No Significant Impact (FONSI) for the final CCP for John Heinz NWR in accordance with National Environmental Policy Act (NEPA) (42 U.S.C. 4321 et seq.) requirements. We completed a thorough analysis of impacts on the human environment, which we included in the draft CCP/EA.

The CCP will guide us in managing and administering John Heinz NWR for the next 15 years. Alternative B, as described for the refuge in the draft CCP/EA, and with the modifications described below, is the foundation for the final CCP.

Background

The National Wildlife Refuge System Administration Act of 1966 (16 U.S.C. 668dd-668ee) (Administration Act), as amended by the National Wildlife Refuge System Improvement Act of 1997, requires us to develop a CCP for each NWR. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

CCP Alternatives, Including the Selected Alternative

Our draft CCP/EA addressed several key issues. To address these issues and develop a plan based on the refuge's establishing purposes, vision, and goals, we evaluated three alternatives for John Heinz NWR in the draft CCP/EA. The draft CCP/EA describes each alternative in detail and relates them to the issues and concerns that arose during the planning process. Below, we provide summaries for the three John Heinz NWR alternatives evaluated in the draft CCP/EA.

Management Alternatives

Alternative A (Current Management)

Alternative A (current management) satisfies the National Environmental Policy Act (40 CFR 1506.6(b)) requirement of a “No Action” alternative, which we define as “continuing current management.” It describes our existing management priorities and activities, and serves as a baseline for comparing and contrasting alternatives B and C. It would maintain our present levels of approved refuge staffing and the biological and visitor programs now in place. We would continue to focus on providing native tidal marsh habitat for migrating and nesting wading birds; wintering marshbirds, waterfowl, and shorebirds; and other wildlife. We would also continue to actively control invasive species, manage grassland habitats, and maintain dikes and water levels in the impoundment. Our environmental education program would continue to focus on providing training for teachers so they could guide field trips on refuge property.

Alternative B (Focus on Environmental Education for Urban Youth)

This is the Service-preferred alternative. It combines the actions we believe would best achieve the refuge's purposes, vision, and goals, and the intent of NWRS policy on Biological Integrity, Diversity, and Environmental Health (601 FW 3). This alternative would also best respond to the issues that arose during the planning process.

Under alternative B, we would expand our freshwater tidal marsh restoration efforts, implement additional forest habitat restoration and management efforts, and increase monitoring efforts for species and for climate change effects. Our environmental education program would focus on expanding staff-led and volunteer-led programs for urban youth. We would also develop environmental education programs that focus on this audience, and work to develop long-term relationships with schools and school districts. We would work to expand environmental interpretation opportunities and infrastructure on the refuge as well.

Alternative C

Alternative C would focus on restoring degraded forests and converting specific grassland areas to shrubland habitat. As in alternative B, we would emphasize invasive species management, freshwater tidal marsh restoration, and monitoring for climate change adaptation. However, under alternative C, we would delay much of these efforts to more fully assess the potential effects of climate change and propose restoring all of the impoundment to tidal marsh. Under alternative C, environmental educational programming would concentrate on providing high school and college-level programs focused on encouraging and training the next generation of conservation professionals and environmentally concerned citizens. We would also focus on playing a more regional role in conservation efforts.

Comments

We solicited comments on the draft CCP/EA for John Heinz NWR from March 22 to April 23, 2012 (77 FR 16854). During the comment period, we received 19 sets of responses including comments from public meetings, a phone call, electronic mail, and letters. We evaluated all of the substantive comments we received, and include a summary of those comments, and our responses to them, as appendix K in the final CCP.

Selected Alternative

We have selected alternative B for implementation, with the following modifications:

• We highlighted that we will be working closely with the Philadelphia International Airport to assess any wildlife hazards prior to implementing any wetland restoration under objective 1.1 in chapter 4.

• We incorporated updated information on species provided by the Pennsylvania Fish and Boat Commission into section 3.3 of chapter 3 and section 2.5 of appendix C.

• We added the following strategy to objective 2.1 in chapter 4: “Work with partners to identify and obtain resources to replace the water control system in the impoundment.”

• We modified the bicycling compatibility determination in appendix B to open one additional trail to bicycling.

• We corrected all format and typographical errors that were brought to our attention.

We have selected alternative B to implement for John Heinz NWR, with these minor changes, for several reasons. Alternative B comprises a mix of actions that, in our professional judgment, work best towards achieving the refuge's purposes, vision, and goals, NWRS policies, and the goals of other State and regional conservation plans. We also believe that alternative B most effectively addresses key issues raised during the planning process. The basis of our decision is detailed in the FONSI (appendix L in the final CCP).

Public Availability of Documents

You can view or obtain the final CCP, including the FONSI, as indicated under ADDRESSES.

Dated: August 27, 2012.
Deborah Rocque,
Acting Regional Director, Northeast Region.

[FR Doc. 2012-24046 Filed 9-28-12; 8:45 a.m.]

BILLING CODE 4310-55-P